EXPORT-IMPORT BANK OF THE UNITED STATES

Sunshine Act Meeting

ACTION: Notice of a Partially Open Meeting of the Board of Directors of the Export-Import Bank of the United States

Time and Place: Thursday, March 8, 2007 at 9:30 a.m. The meeting will be held at Ex-Im Bank in Room 1143, 811 Vermont Avenue, NW., Washington, DC 20571.

Open Agenda Item: Small Business Committee Resolution (Amendment).

Public Participation: The meeting will be open to public participation for Item No. 1 only.

Further Information: For further information, contact; Office of the Secretary, 811 Vermont Avenue, NW., Washington, DC 20571 (Telephone 202-565-3957).

Howard A. Schweitzer,
General Counsel.

[FR Doc. 07-1016 Filed 3-1-07; 3:07 pm]

BILLING CODE 6690-01-M